DEPARTMENT OF JUSTICE

Antitrust Division

Notice Pursuant to the National Cooperative Research and Production Act of 1993—Open DeviceNet Vendor Association, Inc.

Notice is hereby given that, on August 30, 2007, pursuant to Section 6(a) of the National Cooperative Research and Production Act of 1993, 15 U.S.C. 4301, et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, Yaskawa Eshed Technology, Rosh-Ha'ayin, ISRAEL; Innovasic Semiconductor, Albuquerque, NM; FiberFin Inc., Yorkville, IL; Komatsu Electronics, Inc., Hiratsuka Kanagawa, JAPAN; ENDO KOGYO CO., Ltd., Nilgata, JAPAN; Wolke Inks & Printers GmbH, Hersbruck, GERMANY; The Mercury and Iron and Steel Co. d/b/a MISCO Refractometer, Cleveland, OH; Univer S.p.A., Milan, ITALY; HIPROM TECHNOLOGIES (PTY) LTD, Randburg, SOUTH AFRICA; SEARI Group Co., Ltd., Shanghai, PEOPLE'S REPUBLIC OF CHINA; and Micro Innovation, St. Gallen, SWITZERLAND have been added as parties to this venture. Also, Smart Network Devices GmbH, Juelich, GERMANY; SIEI S.p.A., Gerenzano VA, ITALY; ITT Corporation, Lancaster, PA; and GE Multilin, Markham, Ontario, CANADA have withdrawn as parties to this venture.

In addition, the following members have changed their names: Showa Electric Wire & Cable to SWCC ShowaDevice Technology Co., Ltd., Tokyo, JAPAN; and TURCK (Interlink BT) to TURCK, Inc., Plymouth, MN.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on May 10, 2007. A notice was published in the Federal Register pursuant to Section 6(b) of the Act on July 13, 2007 (72 FR 38618).

Patricia A. Brink,
Deputy Director of Operations, Antitrust Division.

[FR Doc. 07-5562 Filed 11-6-07; 8:45 am]

BILLING CODE 4410-11-M